DEPARTMENT OF AGRICULTURE

Submission for OMB Review; Comment Request

July 20, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office,, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Aquaculture Survey.

OMB Control Number: 0535-0150.

Summary of Collection: The primary function of the National Agricultural Statistics Service is to estimate production and stocks of agricultural food, fiber, and specialty commodities. Congress has mandated the collection of basic data for aquaculture and provides funding for these surveys. Public Law 96-362 was passed to increase the overall effectiveness and productivity of federal aquaculture programs by improving coordination and communication among Federal agencies involved in those programs. Aquaculture is an alternative method to produce a high protein, low fat product demanded by the consumer. Aquaculture surveys provide information on trout and catfish inventory, acreage and sales as well as catfish processed.

Need and Use of the Information: The survey results is useful in analyzing changing trends in the number of commercial operations and production levels by State. The information collected is used to demonstrate the growing importance of aquaculture to officials of Federal and State government agencies who manage and direct policy over programs in agriculture and natural resources. The type of information collected and reported provides extension educators and research scientists with data that indicates important areas that require special education and/or research efforts, such as causes for losses of fish and pond inventories of fish of various sizes. The data gathered from the various reports provide information to establish contract levels for fishing programs and to evaluate prospective loans to growers and processors.

Description of Respondents: Farms; Business or other for-profit.

Number of Respondents: 2,346.

Frequency of Responses: Reporting: Monthly; Semi-annually; Annually.

Total Burden Hours: 840.

National Agricultural Statistics Service

Title: Conservation Effects Assessment Survey.

OMB Control Number: 0535-0245.

Summary of Collection: The National Agricultural Statistics Service (NASS) primary function is to prepare and issue official State and national estimates of crop and livestock production, disposition and prices. The information collection is used to assist the Natural Resources Conservation Service in assessing environmental benefits associated with implementation of various conservation programs and installation of associated conservation practices. The authority for these data collection activities is granted under U.S. Code Title 7, Section 2204.

Need and Use of the Information: The findings will be used to report progress annually on Farm Bill implementation and the cost effectiveness of the Environmental Quality Incentives Program and the Conservation Reserve Program. If this collection is not conducted annually, the impact of the conservation programs over time cannot be measured.

Description of Respondents: Farms.

Number of Respondents; 12,400.

Frequency of Responses: Reporting: Annually.

Total Burden Hours: 10,253.

Rural Utility Service

Title: Assistance to High cost Energy Rural communities.

OMB Control Number: 0572-0136.

Summary of Collection: The Rural Electrification Act of 1936 (RE Act) (7 U.S.C. 901 et seq.) was amended in November 2000 to create new grant and loan authority to assist rural communities with extremely high energy costs (Pub. L. 106-472). This amendment gives authorization to Rural Utilities Service (RUS) to provide competitive grants for energy generation, transmission, or distribution facilities serving communities in which the national average is at least 275% for residential expenditure for home energy. All applicants are required to submit a project proposal containing the elements in the prescribed format.

Need and Use of the Information: USDA will collect information from applicants to confirm that the eligibility requirements and the proposals are consistent with the purposes set forth in the statute. Various forms and progress reports are used to monitor compliance with grant agreements, track expenditures of Federal funds and measure the success of the program. Without collecting the listed information, USDA will not be assured that the projects and communities served meet the statutory requirements for eligibility or that the proposed projects will deliver the intended benefits.

Description of Respondents: Business or other for-profit; Not-for-profit institutions; State, Local or Tribal Government.

Number of Respondents: 45.

Frequency of Responses: Recordkeeping: Reporting: On occasion.

Total Burden Hours: 898.

Rural Housing Service

Title: 7 CFR 1951-N, Servicing Cases Where Unauthorized Loan or Other Financial assistance was received—Multiple Family Housing.

OMB Control Number: 0575-0104.

Summary of Collection: Office of Inspector General or through regular visits by Rural Development personnel identify cases of unauthorized assistance. Unauthorized assistance may in the form of a loan, grant, interest subsidy benefit created through use of an incorrect interest rate, interest credits or rental assistance extended to a Multi-Family Housing borrower or grantee by Rural Housing Service (RHS). The legislative authority for requiring the collection of unauthorized assistance is contained in section 510 of the Housing Act of 1949, as amended (42 U.S.C. 1480). RHS has published its own regulation, consistent with the Federal Claims Act, through which it can better assist the recipients of RHS assistance and still adequately protect the Government's interest. THe information collected under the provisions of this regulation is proved on a voluntary basis by the recipient of the assistance in question, although failure to cooperate in effecting requiring corrections to loan accounts may result in loss or reduction of benefits or liquidation of the loan. The information collected will primarily be financial data relating to income and expenses.

Need and Use of the Information: The information required by this regulation is collected from Multi-Family Housing borrowers (who may be individuals, partnerships, private or nonprofit corporations or public bodies) and from tenants who reside in the borrower's rental projects. Tenants who refuse to cooperate or provide information may lose their subsidy or tenancy. The collections are made from RHS borrowers on an individual case. If this regulation is not continued, the cases involving unauthorized financial assistance would remain unresolved and many borrowers would keep financial benefits for which they did not qualify under RHS loan regulations.

Description of Respondents: Individuals or households; Business or other for-profit; Not-for-profit institutions; Farms; State, Local or Tribal Government.

Number of Respondents: 450.

Frequency of Responses: Reporting: On occasion.

Total Burden Hours: 800.

Agricultural Marketing Service

Title: USDA Food and Commodity Connection Web site.

OMB Control Number: 0581-NEW.

Summary of Collection: The USDA Food and Commodity Connection Web site is being developed to assist the institutional food service community across the United States. The Web site focuses on providing information to institutional food service professions, as well as providing a platform for processors, distributors, and brokers to post information about their processed USDA supplied commodities and other commercial food products available for institutional food service purchase. The USDA Food and Commodity Connection Website is a public website and the information provided is considered as public information.

Need and Use of the Information: At the time of registration, the USDA Food Commodity Connection Web site will collect all information electronically. Registrants are authorized to use the website by their individual login and password. Once the registrant is registered, they are required to provide additional information. No information is collected from a user when they access the Web site as a guest.

Description of Respondents: Business or other for-profit; Farms.

Number of Respondents: 800.

Frequency of Responses: Reporting: Other (One Time).

Total Burden Hours: 3,942.

Agricultural Marketing Service

Title: National Research, Promotion, and Consumer Information Programs.

OMB Control Number: 0581-0093.

Summary of Collection: The U.S. Department of Agriculture has the responsibility for implementing and overseeing programs for a variety of commodities including cotton, diary, eggs, beer, pork, soybeans, honey, potatoes, watermelons, mushrooms, kiwifruit, popcorn, and olive oil. Various Acts authorizes these programs to carry out projects relating to research, consumer information, advertising, sales promotion, producer information, market development and product research to assist, improve, or promote the marketing, distribution, and utilization of their respective commodities. The Agricultural Marketing Service (AMS) has the responsibility to appoint board members and approve the boards' budgets, plans, and projects. AMS objective in carrying out this responsibility is to assure the following: (1) Funds are collected and properly accounted for; (2) expenditures of all funds are for the purposes authorized by enabling legislation; and (3) the board's administration of the programs conforms to USDA policy.

Need and Use of the Information: The boards administer the various programs utilizing variety of forms to carry out their responsibilities. Only authorized employees of the various boards and USDA employees will use the information collected. If this data were collected less frequently, (1) it would hinder data needed to collect and refund assessments in a timely manner and result in delayed or even lost revenue; (2) boards would be unable to carry out the responsibilities of their respective Acts; and (3) requiring reports less frequently than monthly would impose additional record keeping requirements.

Description of Respondents: Business or other for profit, Farms, Federal Government.

Number of Respondents: 321,098.

Frequency of Responses: Record-keeping; Reporting: On occasion, Weekly, Monthly, Semi-annually, Annually.

Total Burden Hours: 344,318.

Sondra Blakey,
Departmental Information Collection Clearance Officer.

[FR Doc. 04-16939 Filed 7-23-04; 8:45 am]

BILLING CODE 3410-20-M